Title 3—

The President

Proclamation 9260 of April 27, 2015

Workers Memorial Day, 2015

By the President of the United States of America

A Proclamation

Across the United States, as dedicated Americans clock in at factories, walk onto construction sites, put on their hospital uniforms, and report to do the daily work that drives our Nation's progress, they give meaning to the simple yet profound belief that if you work hard and take responsibility, you can get ahead. However, each year millions of people have their shifts cut short by work-related injuries and illnesses, and on average, 12 Americans lose their lives on the job every day. On Workers Memorial Day, we honor those we have lost and recommit to improving conditions for all who work hard to provide for their families and contribute to our country.

Throughout our history, the American worker has labored not only to erect buildings and cities, but also to raise the standards of our Nation's workplaces. Through protests and picket lines, by organizing and raising their voices together, workers have won small and large victories that have pushed our country closer to ensuring safer and healthier jobs for all. Over 40 years ago, the right to a safe workplace was written into law with the Federal Coal Mine Health and Safety Act of 1969 and the Occupational Safety and Health Act of 1970. Since then, job-related deaths, injuries, and illnesses have decreased; but there is more progress to be made, and we cannot grow complacent in the fight for better working conditions.

My Administration continues to bolster workers' rights with millions of dollars in funding targeted at inspecting hazardous workplaces and helping employers understand and comply with safety and health regulations. Additionally, to ensure companies receiving taxpayer money maintain a safe workplace, last year I signed an Executive Order to crack down on Federal contractors who put workers' safety and pay at risk. By creating incentives for better compliance and a process for contractors to follow basic workplace protection laws, we are sending a strong message throughout the economy: if you want to do business with the United States, you must respect our workers.

American laborers form the backbone of our economy—but our economic growth should never come at the cost of their safety or well-being. Those who work every day to put food on the table, provide for their families, or care for their fellow citizens should know their country has their back. Today, as we remember women and men taken from us too soon, we remind ourselves that even one life lost to a preventable job-related incident is one too many, and we focus our efforts on creating a world where success at the workplace is determined only by the strength of our work ethic and the scope of our dreams.

NOW, THEREFORE, I, BARACK OBAMA, President of the United States of America, by virtue of the authority vested in me by the Constitution and the laws of the United States, do hereby proclaim April 28, 2015, as Workers Memorial Day. I call upon all Americans to participate in ceremonies and activities in memory of those killed or injured due to unsafe working conditions.

IN WITNESS WHEREOF, I have hereunto set my hand this twenty-seventh day of April, in the year of our Lord two thousand fifteen, and of the Independence of the United States of America the two hundred and thirty-ninth.

[FR Doc. 2015-10325

Filed 4-29-15; 11:15 am]

Billing code 3295-F5